ENVIRONMENTAL PROTECTION AGENCY

40 CFR Parts 122 and 450

[FRL-7394-2]

RIN 2040-AD42

Effluent Limitation Guidelines and New Source Performance Standards for the Construction and Development Category; Proposed Rule

AGENCY: Environmental Protection Agency (EPA).

ACTION: Proposed rule; extension of comment period and addition to docket.

SUMMARY: EPA is extending the comment period for the proposed rule and adding two documents to the rulemaking docket.

DATES: Comments on the proposed rule will be accepted through December 23, 2002.

ADDRESSES: Submit written comments to Comment Clerk, Water Docket (4101T), U.S. EPA, 1200 Pennsylvania Ave., NW, Washington, DC 20460. Please refer to Docket No. W-02-06. EPA requests an original and three copies of your comments and enclosures (including references). Commenters who want EPA to acknowledge receipt of their comments should enclose a self-addressed, stamped envelope. No facsimiles (faxes) will be accepted. For hand deliveries or e-mail comments, see the Supplementary Information. paragraph below.

FOR FURTHER INFORMATION CONTACT: Mr. Eric Strassler at (202) 566-1026.

SUPPLEMENTARY INFORMATION: On June 24, 2002 (67 FR 42644), EPA proposed effluent guidelines and standards for storm water discharges from construction sites. The original comment deadline was October 22, 2002. EPA received requests to extend the comment period and the Agency has decided to do so due to the complexity of the issues involved with the proposed rule and its implementation. The comment period will now end on December 23, 2002.

EPA identified two documents which it considered during the development of the proposed rule but inadvertently omitted from the rulemaking docket. These documents are now available for public review.

1. National Association of Home Builders, ”Erosion and Sediment Control Best Management Practices Research Project.” Washington, DC, 2000.

2. EPA, “Final Report of the SBREFA Small Business Advocacy Review Panel on EPA's Planned Proposed Rule for Effluent Limitation Guidelines and Standards for the Construction and Development Industry.” October 12, 2001.

EPA established the public record for the proposed rule under docket number W-02-06. The record is available for inspection at the EPA Docket Public Reading Room, EPA West Building, Room B102, 1301 Constitution Avenue, NW, Washington, DC 20004. Please call the Water Docket office at (202) 566-2426 to schedule an appointment. Please bring any hand-delivered comments to the Public Reading Room address.

Comments may also be sent via e-mail to ow-docket@epa.gov. Electronic comments must be identified by the docket number W-02-06 and must be submitted as a WordPerfect, MS Word or ASCII text file, avoiding the use of special characters and any form of encryption. EPA requests that any graphics included in electronic comments also be provided in hard-copy form. EPA also will accept comments and data on disks in the aforementioned file formats. Electronic comments received on this document may be filed online at many Federal Depository Libraries. No confidential business information (CBI) should be sent by e-mail.

Additional information on the proposed rule is available on EPA's Web site at http://www.epa.gov/waterscience/guide/construction/.

Dated: October 9, 2002.
G. Tracy Mehan III,
Assistant Administrator for Water.

[FR Doc. 02-26302 Filed 10-15-02; 8:45 am]

BILLING CODE 6560-50-P